DEPARTMENT OF HEALTH AND HUMAN SERVICES

Centers for Disease Control and Prevention

Notice of Establishment

Pursuant to Section 10413, Part V of the Patient Protection and Affordable Care Act (which established Section 399NN of the Public Health Service Act, as amended); Public Law 111-48, the Director, Centers for Disease Control and Prevention (CDC), announces the establishment of the Advisory Committee on Breast Cancer in Young Women.

This committee is established to assist in creating a national evidence-based public education and media campaign to provide age-appropriate messages and materials to: (1) Increase awareness of good breast health habits; (2) identify risk factors based on familial, racial ethnic and cultural backgrounds; (3) encourage young women and healthcare professionals to increase early detection of breast cancers; and (4) increase the availability of health information and other resources for young women diagnosed with breast cancer.

The Advisory Committee on Breast Cancer in Young Women will advise the Secretary, HHS, the Assistant Secretary for Health, and the Director, CDC regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

For more information, contact Ena Wanliss, M.S., Lead Public Health Advisor, CDC, National Center for Chronic Disease Prevention and Health Promotion, Division of Cancer Prevention and Control, 4770 Buford Highway, Mailstop K-57, Chamblee, Georgia 30316, Telephone: 770-488-4225.

The Director, Management Analysis and Services Office, has been delegated the authority to sign Federal Register notices pertaining to announcements of meetings and other committee management activities for both CDC and the Agency for Toxic Substances and Disease Registry.

Dated: June 18, 2010.
Elaine L. Baker,
Director, Management Analysis and Services Office, Centers for Disease Control and Prevention.

[FR Doc. 2010-15293 Filed 6-23-10; 8:45 am]

BILLING CODE 4163-18-P